ELECTION ASSISTANCE COMMISSION

Voting System Test Laboratory Program Manual, 2.0, for the U.S. Election Assistance Commission's Voting System Testing and Certification Program

AGENCY: United States Election Assistance Commission (EAC).

ACTION: Notice; publication of Voting System Test Laboratory Program Manual, Version 2.0, for 30 day public comment period on EAC Web site.

SUMMARY: The U.S. Election Assistance Commission (EAC) is publishing a procedural manual for its Voting System Testing and Certification Program. This manual sets the administrative procedures for voting system test laboratories in the EAC testing and certification program. Participation in the program is strictly voluntary. The program is mandated by the Help America Vote Act (HAVA) at 42 US.C. 15371.

SUPPLEMENTARY INFORMATION:

Background

HAVA requires that the EAC certify and decertify voting systems. Section

231(a)(1) of HAVA (42 U.S.C. 15371) specifically requires the EAC to “. . . provide for the testing, certification, decertification and recertification of voting system hardware and software by accredited laboratories.” To meet this obligation, the EAC has created a voluntary program to test voting systems to Federal voting system standards. The Voting System Test Laboratory Program Manual, published below, will set the procedures for laboratories in this program.

EAC is required to submit the Testing and Certification Manual for approval in accordance with Paperwork Reduction Act of 1995 requirements. The Testing and Certification Division has updated sections of the manual to reflect proposed changes in certification procedures.

Comments

This notice is published in accordance with the Paperwork Reduction Act of 1995, to request comments regarding the burden of responding to the information collection activities of the proposed manual; please refer to the EAC's Web site, www.eac.gov, for further information about the submission of comments regarding burden.

DATES: Submit written or electronic comments on this draft procedural manual on or before 5:00 p.m. EDT on May 14, 2015.

ADDRESSES: Submit comments via email to VotingSystemGuidelines@eac.gov; via mail to Jessica Myers, Certification Program Specialist, U.S. Election Assistance Commission, 1335 East West Highway, Suite 4300, Silver Spring, MD 20910; or via fax to 202-566-1392. An electronic copy of the proposed manual may be found on the EAC's Web site http://www.eac.gov/open/comment.aspx.

FOR FURTHER INFORMATION CONTACT: Brian Hancock, Director, Voting System Certification, Washington, DC, (202) 566-3100, Fax: (202) 566-1392.

Bryan Whitener,
Director of Communications and Clearinghouse, U.S. Election Assistance Commission.

[FR Doc. 2015-08567 Filed 4-13-15; 8:45 am]

BILLING CODE 6820-KF-P